DEPARTMENT OF DEFENSE

Office of the Secretary

[Docket ID: DOD-2009-OS-0022]

Privacy Act of 1974; Systems of Records

AGENCY: Defense Finance and Accounting Service, DoD.

ACTION: Notice to alter an existing system of records.

SUMMARY: The Defense Finance and Accounting Service (DFAS) is proposing to alter a system of records notice subject to the Privacy Act of 1974, (5 U.S.C. 552a), as amended.

DATES: This Action will be effective without further notice on March 23, 2009 unless comments are received that would result in a contrary determination.

ADDRESSES: Send comments to the FOIA/PA Program Manager, Corporate Communications and Legislative Liaison, Defense Finance and Accounting Service, 8899 E. 56th St., Indianapolis, IN 46249-0150.

FOR FURTHER INFORMATION CONTACT: Ms. Linda Krabbenhoft at (303) 589-3510.

SUPPLEMENTARY INFORMATION: The Defense Finance and Accounting Service systems of records notices subject to the Privacy Act of 1974 (5 U.S.C. 552a), as amended, have been published in the Federal Register and are available from the address above.

The proposed system report, as required by 5 U.S.C. 552a(r) of the Privacy Act of 1974, as amended, was submitted on February 11, 2009, to the House Committee on Government Reform, the Senate Committee on Homeland Security and Governmental Affairs, and the Office of Management and Budget (OMB) pursuant to paragraph 4c of Appendix I to OMB Circular No. A-130, “Federal Agency Responsibilities for Maintaining Records About Individuals,” dated December 12, 2000, 65 FR 239.

Dated: February 12, 2009.
Morgan E. Frazier,
Alternate OSD Federal Register Liaison Officer, Department of Defense.

T1300

System name:

Disbursing Officer Establishment and Appointment Files (August 24, 2005, 70 FR 49586).

Changes:

* * * * *

System Location:

Delete entry and replace with “Defense Finance and Accounting Service—Cleveland, 1240 East 9th Street, Cleveland, OH 44199-2055.

Defense Finance and Accounting Service—Indianapolis, 8899 East 56th Street, Indianapolis, IN 46249-0001.

Defense Finance and Accounting Service, Columbus, 3990 East Broad Street, Building #21, Columbus, OH 43213-1152.”

* * * * *

Categories of records in the system:

Delete entry and replace with “Full name, Social Security Number (SSN), telephone number, forms for designation and appointment of deputy and disbursing officer, letters to Federal Reserve banks, and requests for approval and appointment of accountable officers; appointment letters; commencement of disbursing duty letters; Financial Management Service Forms, Specimen Signatures and Signature Card.”

* * * * *

Authority for maintenance of the system:

Delete and replace with “Department of Defense Financial Management Regulation (DoDFMR) 7000.14-R, Vol. 5, 31 U.S.C. 3321 and E.O. 9397 (SSN).”

* * * * *

Routine uses of records maintained in the system, including categories of users and the purposes of such uses:

Add “To the United States Treasury to verify authority of the accountable individual to issue Treasury checks and validate the signature of the Disbursing Officer.”

* * * * *

Storage:

Delete entry and replace with “Maintained in file folders and on electronic storage media.”

* * * * *

Safeguards:

Delete entry and replace with “Records are maintained in a controlled facility. Physical entry is restricted by the use of locks, guards, and is accessible only to authorized personnel. Access to records is limited to person(s) responsible for servicing the record in performance of their official duties and who are properly screened and cleared for need-to-know. Access to computerized data is restricted by passwords, which are changed periodically.”

Retention and disposal:

Delete entry and replace with “Cut-off at the end of Fiscal Year in which order is revoked or cancelled or when action has been taken to correct discrepancies. Destroy 6 years after cutoff. The records are destroyed by shredding, pulping, burning or degaussing.”

System manager(s) and address:

Delete entry and replace with “Director of Network Operations, Defense Finance and Accounting Service—Cleveland, 1240 East 9th Street, Cleveland, OH 44199-2055.

Director of Network Operations, Defense Finance and Accounting Service—Indianapolis, 8899 East 56th Street, Indianapolis, IN 46249-0001.

Defense Finance Accounting Service, 3990 East Broad Street, Building #21, Columbus, OH 43213-1152.”

Notification procedure:

Delete entry and replace with “Individuals seeking to determine whether information about themselves is contained in this system of records should address written inquiries to the Defense Finance and Accounting Service, Freedom of Information/Privacy Act Program Manager, Corporate Communications and Legislative Liaison, 8899 E. 56th Street, Indianapolis, IN 46249-0150.

Individuals should provide sufficient proof of identity, such as full name, Social Security Number (SSN), telephone number and other information verifiable from the record itself.”

Records access procedures:

Delete entry and replace with “Individuals seeking to determine whether information about themselves is contained in this system of records should address written inquiries to the Defense Finance and Accounting Service, Freedom of Information/Privacy Act Program Manager, Corporate Communications and Legislative Liaison, 8899 E. 56th Street, Indianapolis, IN 46249-0150.

Individuals should provide sufficient proof of identity, such as full name, Social Security Number (SSN), telephone number and other information verifiable from the record itself.”

Contesting record procedures:

Delete entry and replace with “The DFAS rules for accessing records, for contesting contents and appealing initial agency determinations are published in DFAS Regulation 5400.11-R; 32 CFR part 324; or may be obtained from the Freedom of Information/Privacy Act Program Manager, Corporate Communications and Legislative Liaison, 8899 E. 56th Street, Indianapolis, IN 46249-1050.”

Record source categories:

Delete entry and replace with “The individual concerned.”

* * * * *

T1300

System name:

Disbursing Officer Establishment and Appointment Files.

System location:

Defense Finance and Accounting Service—Cleveland, 1240 East 9th Street, Cleveland, OH 44199-2055.

Defense Finance and Accounting Service—Indianapolis, 8899 East 56th Street, Indianapolis, IN 46249-0001.

Defense Finance and Accounting Service, Columbus, 3990 East Broad Street, Building #21, Columbus, OH 43213-1152.

Categories of individuals covered by the system:

Military members and DoD civilians who are appointed as deputies and individuals appointed as accountable disbursing officers.

Categories of records in the system:

Full name, Social Security Number (SSN), telephone number, forms for designation and appointment of deputy and disbursing officer, letters to Federal Reserve banks, and requests for approval and appointment of accountable officers; appointment letters; commencement of disbursing duty letters; Financial Management Service Forms, Specimen Signatures and Signature Card.

Authority for maintenance of the system:

5 U.S.C. 301, Departmental Regulations; DoD 7000.14-R, DoD Financial Management Regulation; DFAS 005, Delegation of Statutory Authority and E.O. 9397 (SSN).

Purpose(s):

Information is used to determine whether an individual has held an accountable position in the past. To obtain data for the appointment or termination of deputies and the appointment or termination of other than finance officers as accountable officers.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To Federal Reserve banks to verify authority of the accountable individual to issue Treasury checks.

To the United States Treasury to verify authority of the accountable individual to issue Treasury checks and validate the signature of the Disbursing Officer.

The DoD “Blanket Routine Uses” published at the beginning of the DFAS compilation of systems of records notices apply to this system.

Policies and practices for storing, retrieving, accessing, retaining, and disposing of records in the system:

Storage:

Maintained in file folders and on electronic storage media.

Retrievability:

By individual's name, Social Security Number and accounting and disbursing station number.

Safeguards:

Records are maintained in a controlled facility. Physical entry is restricted by the use of locks, guards, and is accessible only to authorized personnel. Access to records is limited to person(s) responsible for servicing the record in performance of their official duties and who are properly screened and cleared for need-to-know. Access to computerized data is restricted by passwords, which are changed periodically.

Retention and disposal:

Cut-off at the end of Fiscal Year in which order is revoked or cancelled or when action has been taken to correct discrepancies. Destroy 6 years after cutoff. The records are destroyed by shredding, pulping, burning or degaussing.

System manager(s) and address:

Director of Network Operations, Defense Finance and Accounting Service—Cleveland, 1240 East 9th Street, Cleveland, OH 44199-2055.

Director of Network Operations, Defense Finance and Accounting Service—Indianapolis, 8899 East 56th Street, Indianapolis, IN 46249-0001.

Defense Finance Accounting Service, 3990 East Broad Street, Building #21, Columbus, OH 43213-1152.

Notification procedure:

Individuals seeking to determine whether information about themselves is contained in this system of records should address written inquiries to the Defense Finance and Accounting Service, Freedom of Information/Privacy Act Program Manager, Corporate Communications and Legislative Liaison, 8899 E. 56th Street, Indianapolis, IN 46249-0150.

Individuals should provide sufficient proof of identity, such as full name, Social Security Number (SSN), telephone number and other information verifiable from the record itself.

Record access procedure:

Individuals seeking access to information about themselves contained in this system of records should address written inquiries to the Defense Finance and Accounting Service, Freedom of Information/Privacy Act Program Manager, Corporate Communications and Legislative Liaison, 8899 E. 56th Street, Indianapolis, IN 46249-0150.

Individuals should provide sufficient proof of identity, such as full name, Social Security Number (SSN), telephone number and other information verifiable from the record itself.

Contesting record procedures:

The DFAS rules for accessing records, for contesting contents and appealing initial agency determinations are published in DFAS Regulation 5400.11-R; 32 CFR part 324; or may be obtained from the Freedom of Information/Privacy Act Program Manager, Corporate Communications and Legislative Liaison, 8899 E. 56th Street, Indianapolis, IN 46249-1050.

Record source categories:

The individual concerned.

Exemptions claimed for the system:

None.

[FR Doc. E9-3511 Filed 2-18-09; 8:45 am]

BILLING CODE 5001-06-P